DEPARTMENT OF LABOR

Employment and Training Administration

[TA-W-55,083]

Hawk Motors, A Division of the Hawk Corporation, Alton, IL; Notice of Termination of Investigation

Pursuant to section 221 of the Trade Act of 1974, as amended, an investigation was initiated on June 16, 2004 in response to a petition filed by a company official on behalf of workers at Hawk Motors, a division of the Hawk Corporation, Alton, Illinois.

The petitioner has requested that the petition be withdrawn. Consequently, the investigation has been terminated.

Signed at Washington, DC this 29th day of June 2004
Linda G. Poole,
Certifying Officer, Division of Trade Adjustment Assistance.

[FR Doc. 04-16294 Filed 7-16-04; 8:45 am]

BILLING CODE 4510-30-P